DEPARTMENT OF TRANSPORTATION

Federal Highway Administration

[Project No. HPP-TI-LC49(97)]

Environmental Impact Statement; Utah County, UT

AGENCY: Federal Highway Administration (FHWA), DOT.

ACTION: Notice of intent.

SUMMARY: FWHA is issuing this notice to advise the public that an Environmental Impact Statement will be prepared for proposed transportation improvements between the Provo Airport and the University Avenue Interchange on I-15 in Utah County, Utah.

FOR FURTHER INFORMATION CONTACT: Anthony Sarhan, Area Engineer, Federal Highway Administration, 2520 West 4700 South, Suite 9A, Salt Lake City, Utah 84118, Telephone: (801) 963-0182; or Lori Dabling, UDOT R3 Project Manager, 658 N. 1500 W. Orem, UT 84057, Telephone: 801-227-8081 Fax: 801-222-3420.

SUPPLEMENTARY INFORMATION: FWHA, in cooperation with the Utah Department of Transportation (UDOT) and Provo City will prepare an Environmental Impact Statement (EIS) on a proposal to address current and projected traffic demand and provide an improved access between the Provo Airport and the University Avenue Interchange on I-15. The proposed project area extends for approximately 3 miles in length between the interchange and the airport and along existing Center Street in Provo. The project is generally bordered on the south and west by Utah Lake and on the east by I-15.

The FHWA will consider a reasonable range of alternatives which meet the project objectives and are based on agency and public input. These alternatives include: (1) Taking no action; (2) using alternative travel modes, (3) upgrading and adding lanes to existing Center Street; and (4) constructing a highway on a new location for all or a portion of the project length.

The public, as well as Federal, State, and local agencies, will be invited to participate in project scoping to ensure that a full range of alternatives is considered and that all appropriate environmental issues and resources are evaluated. The scoping process will include opportunities to provide comments on the purpose and need for the project, potential alternatives, and social, economic, and environmental issues of concern.

Letters describing the proposed action and soliciting comments will be sent to appropriate Federal, state, and local agencies, and to private organizations and citizens who have previously expressed or who are known to have an interest in this proposal. An agency scoping meeting will be held to solicit comments on May 22, 2007, from 1 p.m. to 3 p.m. in Conference Rooms A, B, and C at the UDOT Region 3 Office (658 North 1500 West, Orem, UT).

The public will be invited to participate in scoping meetings which will be held in an open house format at locations and dates to be determined. In addition, a public hearing will be held following the release of the draft EIS. Public notice advertisements and direct mailings will notify interested parties of the time and place of the public meetings and the public hearing.

To ensure that the full range of issues related to this proposed action is addressed and all significant issues are identified, comments and suggestions are invited from all interested parties. Comments or questions concerning this proposed action and the EIS should be directed to FHWA at the address provided above.

(Catalog of Federal Domestic Assistance Program Number 20-.205, Highway Planning and Construction. The regulations implementing Executive Order 12372 regarding intergovernmental consultation on Federal programs and activities apply to this program)

Issued On: April 23, 2007.
Edward Woolford,
Environmental Specialist, FHWA—Utah Division.

[FR Doc. E7-8161 Filed 4-27-07; 8:45 am]

BILLING CODE 4910-22-P